DEPARTMENT OF THE INTERIOR

Bureau of Indian Affairs

Tribal Consultation on Indian Education Topics

AGENCY: Bureau of Indian Affairs, Interior.

ACTION: Notice of tribal consultation meetings.

SUMMARY: This notice announces that the Bureau of Indian Affairs (BIA), Office of Indian Education Programs (OIEP), will be conducting consultation meetings to obtain oral and written comments on potential issues in Indian Education Programs. The potential issues will be set forth and described in a tribal consultation booklet to be issued prior to the meetings by the Office of Indian Education Programs. The proposed topics are: a Memorandum of Agreement (MOA) between the Department of the Interior and the Department of Education regarding education programs for BIA-funded schools, the proposed restructuring of the Office of Indian Education Programs, and a draft policy of the Office of Facilities Management and Construction establishing standards for “high risk” grantees seeking construction grants in excess of $100,000.

DATES: Comments must be received on or before September 30, 2005. See SUPPLEMENTARY INFORMATION section for scheduled dates and locations of the meetings. All meetings will begin at 9 a.m. and continue until 3 p.m. (local time) or until all meeting participants have an opportunity to make comments.

ADDRESSES: Send or hand-deliver written comments to Edward Parisian, Acting Director, Office of Indian Education Programs, Bureau of Indian Affairs, Mail Stop Room 3609-MIB, 1849 C St., NW., Washington, DC 20240. Submissions by facsimile should be sent to (202) 273-0030.

FOR FURTHER INFORMATION CONTACT: Dr. James Martin, (202) 208-5810.

SUPPLEMENTARY INFORMATION: The meetings are a follow-up to similar meetings conducted by BIA-OIEP since 1990. As required by 25 U.S.C. 2011(b), the purpose of the consultation is to provide Indian tribes, school boards, parents, Indian organizations and other interested parties with an opportunity to comment on potential issues facing the BIA on Indian education programs.

Meeting Schedule

Date | Location | Local contact | Phone numbers
August 29, 2005 | Phoenix, AZ | Lester Hudson | (520) 361-3510 ext. 112
August 29, 2005 | Minneapolis, MN | Terry Portra | (612) 725-4591
August 29, 2005 | Gallup, NM | Beatrice Woodward | (505) 786-6151
August 29, 2005 | Portland, OR | John Reimer | (503) 872-2743
August 30, 2005 | Albuquerque, NM | Dr. Jenny Jimenez | (505) 753-1466
August 30, 2005 | Aberdeen, SD | Emma Jean Blue Earth | (701) 854-3497
August 30, 2005 | Nashville, TN | Joy Martin | (405) 605-6051

A consultation booklet for the meetings is being distributed to federally-recognized Indian tribes, Bureau Regional and Agency Offices, and Bureau-funded schools. The booklets will also be available from local contact persons at each meeting.

Public Comment Availability

Comments, including names, street addresses, and other contact information of respondents, will be available for public review at the address listed under the ADDRESSES section during regular business hours (7:45 a.m. to 4:15 p.m. EST), Monday through Friday, except Federal holidays. Individual respondents may request confidentiality. If you wish us to withhold your name, street address, and other contact information (such as fax or phone number) from public review or from disclosure under the Freedom of Information Act, you must state this prominently at the beginning of your comment. We will honor your request to the extent allowable by law. We will make available for public inspection in their entirety all submissions from organizations or businesses, and from individuals identifying themselves as representatives or officials of organizations or businesses.

Authority: This notice is published in accordance with the authority delegated by the Secretary of the Interior to the Principal Deputy Assistant Secretary—Indian Affairs by 209 DM 8.1.

Dated: July 29, 2005.
Michael D. Olsen,
Acting Principal Deputy Assistant Secretary—Indian Affairs.

[FR Doc. 05-15547 Filed 8-5-05; 8:45 am]

BILLING CODE 4310-6W-P